DEPARTMENT OF DEFENSE

Department of the Air Force

Supplemental Notice of Board of Visitors of the U.S. Air Force Academy Meeting

AGENCY: Board of Visitors of the U.S. Air Force Academy (BoV AFA), Department of the Air Force.

ACTION: Supplemental notice of Federal advisory committee meeting.

SUMMARY: The Department of Defense (DoD) is publishing this supplemental notice to announce an in-person attendance option for a Federal advisory committee meeting of the Board of Visitors of the U.S. Air Force Academy (BoV AFA) that was announced in the Federal Register of July 8, 2025.

DATES: The meeting is open to the public Thursday, August 7, 2025, from approximately 8:30 a.m. to 11:30 a.m. (mountain time). Those wishing to attend in person are requested to submit their name, affiliation, and phone number to bov@afacademy.af.edu by July 30, 2025.

ADDRESSES: The meeting will be held at the Falcon Club, 3120 Academy Dr., Air Force Academy, CO 80840.

FOR FURTHER INFORMATION CONTACT:

Designated Federal Officer: Dr. Raquel Rimpola, bov@afacademy.af.edu, 703-614-4751, 1660 Air Force Pentagon, Washington, DC 20330-1660

Alternate Designated Federal Officer: Ms. Blaire Brush, bov@afacademy.af.edu, 2304 Cadet Drive, Suite 3200, USAF Academy, CO 80840-5025.

USAFA BoV Website: https://www.usafa.edu/about/bov/. Contains information on the Board of Visitors, link to the meeting, and approved meeting agenda.

SUPPLEMENTARY INFORMATION: The original meeting announcement can be found in the Federal Register of July 8, 2025, at 90 FR 30058. This meeting is being held under the provisions of the Federal Advisory Committee Act (FACA) (5 U.S.C. 1001 et seq.), the Government in the Sunshine Act (5 U.S.C. 552b), and 41 CFR 102-3.140 and 102-3.150. A completed background check and government issued Real ID are required to access the meeting location. All members of the public are subject to security screening. Seating is available on a first come, first served basis.

Pursuant to 41 CFR 102-3.140d, the committee is not obligated to allow a member of the public to speak or otherwise address the committee during the meeting and members of the public attending the committee meeting will not be permitted to present questions from the floor or speak to any issue under consideration of the committee.

Disability and Language Accommodations: Please direct any requests for disability or language accommodations to the Alternate Designated Federal Officer in the FOR FURTHER INFORMATION CONTACT section above.

Tommy W. Lee,
Acting Air Force Federal Register Liaison Officer.

[FR Doc. 2025-13492 Filed 7-17-25; 8:45 am]

BILLING CODE 3911-44-P